DEPARTMENT OF TRANSPORTATION

Federal Railroad Administration

[Docket No. FRA-2017-0002-N-23]

Proposed Agency Information Collection Activities; Comment Request

AGENCY: Federal Railroad Administration (FRA), U.S. Department of Transportation.

ACTION: Notice and request for comments.

SUMMARY: Under the Paperwork Reduction Act of 1995 (PRA) and its implementing regulations, FRA seeks renewed approval of the proposed information collection activities listed below. Before submitting these information collection requests (ICRs) to the Office of Management and Budget (OMB) for approval, FRA is soliciting public comment on specific aspects of the activities, which are identified in this notice.

DATES: Comments must be received no later than December 11, 2017.

ADDRESSES: Submit written comments on any or all of the following proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-0571” or “Comments on OMB Control Number 2130-0596,” and should also include the title of the collection of information. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval to implement them. See 44 U.S.C. 3506(c)(2)(A); 5 CFR 1320.8(d)(1), 1320.10(e)(1), 1320.12(a). FRA invites interested respondents to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of currently approved information collection activities that FRA will submit for renewed clearance by OMB as required under the PRA:

Title: Occupational Noise Exposure for Railroad Operating Employees.

OMB Control Number: 2130-0571.

Abstract: FRA uses the collection of information to ensure railroads covered by this rule establish and implement noise monitoring, hearing conservation, and audiometric testing programs. This collection also includes hearing conservation training programs that protect railroad employees from the damaging and potentially dangerous effects of excessive noise in the everyday rail environment.

Form Number(s): N/A.

Affected Public: Businesses.

Respondent Universe: 755 railroads.

Frequency of Submission: On occasion.

Affected Public: Businesses (Railroads, railroads equipment manufacturers).

Reporting Burden:

CFR section | Respondent universe | Total annual responses | Average time per response | Total annual burden hours
227.13—Waivers | 502 railroads | 2 petitions | 60 minutes | 2 hours.
227.103—Noise monitoring program: development and implementation | 502 railroads | 5 programs | 30 hours | 150 hours.
—Notification of employee of monitoring | 502 railroads | 5 lists | 30 minutes | 3 hours.
227.107—Hearing Conservation Program (HCP)—Development of programs | 502 railroads | 5 HCPs | 31 hours | 155 hours.
—Revised hearing conservation programs (HCPs) | 502 railroads | 5 HCPs | 1.75 hours | 9 hours.
227.109—Audiometric Testing Program—Existing employees—baseline audiograms | 85,600 employees | 7,704 tests | 25 minutes | 3,210 hours.
—Periodic audiograms | 85,600 employees | 28,530 tests | 10 minutes | 4,755 hours.
—Evaluation of audiograms | 85,600 employees | 2,330 ratings + 93 retests | 6 min./+ 30 min. | 280 hours.
—Problem audiograms/& provision of required documents to medical professional | 8,000 employees | 45 documents | 10 minutes | 8 hours.
—Follow-up procedures—notifications | 8,000 employees | 93 notices | 5 minutes | 8 hours.
—Fitting/training of employees: hearing protectors | 240 employees | 240 tr. session | 5 minutes | 20 hours.
—Referrals for clinical/otological exam | 240 employees | 20 referrals | 2 hours | 40 hours.
—Notification to employee of need for otological examination | 240 employees | 20 notices | 5 minutes | 2 hours.
—New audiometric interpretation | 240 employees | 20 notices | 5 minutes | 2 hours.
227.111—Audiometric test requirements | 1,000 mobile vans | 1,000 tests | 45 minutes | 750 hours.
227.117—Hearing protection attenuation—evaluation | 502 railroads | 50 evaluations | 30 minutes | 25 hours.
—Re-evaluations of adequacy of hearing protection attenuation when employee noise exposure increases | 502 railroads | 10 re-evaluations | 30 minutes | 5 hours.
227.119—Hearing Conservation Training Program—development | 502 railroads | 5 programs | 60 minutes | 5 hours.
—Employee HCP Training | 502 railroads | 26,000 tr. employees | 30 minutes | 13,000 hours.
—Periodic Training | 502 railroads | 7,704 tr. employees | 30 minutes | 3,852 hours.
227.121—Recordkeeping—authorization: records | 502 railroads | 30 requests + 30 responses | 10 minutes + 15 minutes | 13 hours.
—Request for copies of reports | 502 railroads | 150 requests + 150 responses | 21 minutes + 45 minutes | 166 hours.
—Records transfer when carrier becomes defunct | 502 railroads | 10 records | 24 minutes | 4 hours.
—Railroad audiometric test records | 502 railroads | 26,000 records | 2 minutes | 867 hours.
—Hearing Conservation Program (HCP): Records | 502 railroads | 54,000 records | 45 seconds | 675 hours.
229.121—Locomotive Cab Noise—tests/records and certification | 3 equipment manufacturers | 610 records + 90 certs | 5 minutes + 40 minutes | 111 hours.
—Equipment maintenance: excessive noise reports | 484 railroads | 3,000 reports + 3,000 record | 1 minute + 1 minute | 100 hours.
—Maintenance records | 484 railroads | 3,750 records | 1 minute | 63 hours.
—Internal auditable monitoring systems | 484 railroads | 22 systems + 2 systems | 36 min. + 8.25 hours | 30 hours.
Appendix H—Static test protocols/records | 700 locomotives | 2 retests + 2 records | 10 minutes + 5 minutes | 1 hour.

Total Estimated Annual Responses: 164,734.

Total Estimated Annual Burden: 28,311 hours.

Type of Request: Extension of a Currently Approved Collection.

Title: Conductor Certification.

OMB Control Number: 2130-0596.

Abstract: FRA's conductor certification regulation (49 CFR part 242) requires railroads to have a formal program for certifying conductors. As part of that program, railroads are required to have a formal process for training prospective conductors and determining that all persons are competent before permitting them to serve as a conductor. FRA intended the regulation to ensure that only those persons who meet minimum Federal safety standards serve as conductors. FRA collects information to ensure that railroads and their employees fully comply with all the requirements of part 242, including a conductor certification/recertification program, fitness requirements, initial and periodic testing of conductors, territorial qualifications, etc.

Form Number(s): N/A.

Affected Public: Businesses.

Respondent Universe: 704 railroads.

Frequency of Submission: On occasion; annually.

Reporting Burden:

CFR section/subject | Respondent universe | Total annual responses | Average time per response | Total annual burden hours
242.9—Waivers—Petitions | 704 railroads | 3 petitions | 3 hours | 9 hours.
242.101/103—Certification programs for new railroads | 704 railroads | 5 new programs | 15.5 hours | 78 hours.
—Conductor certification submission: Copies to rail labor organizations—RLO | 704 railroads | 40 copies | 15 minutes | 10 hours.
—Affirmative statements that copies of submissions were sent to RLOs | 704 railroads | 40 avowals | 15 minutes | 10 hours.
—Certified comments on submissions | 704 railroads | 15 comments | 4 hours | 60 hours.
—Certification programs disapproved by FRA and then revised | 704 railroads | 10 programs | 3 hours | 30 hours.
—Revised certification programs still not conforming and then resubmitted | 704 railroads | 3 programs | 2 hours | 6 hours.
—Certification programs materially modified after initial FRA approval | 704 railroads | 15 programs | 2 hours | 30 hours.
—Materially modified programs disapproved by FRA & then revised | 704 railroads | 3 programs | 2 hours | 6 hours.
—Revised programs disapproved and then re-submitted | 704 railroads | 1 program | 2 hours | 2 hours.
242.105—Implementation Schedule
—Issued certificates (⅓ each year) | 704 railroads | 16,200 certif | 30 minutes | 8,100 hours.
—Issued certificates (⅓ each year) | 704 railroads | 1,800 certif. | 30 minutes | 900 hours.
—Requests for delayed certification | 704 railroads | 200 requests | 30 minutes | 100 hours.
—Testing/evaluation to certify persons | 704 railroads | 1,000 tests | 560 hours | 560,000 hours.
—Testing/evaluation to certify conductors (Class III) | 704 railroads | 100 tests | 400 hours | 40,000 hours.
242.107—Types of service
—Reclassification to diff. type of cert | 704 railroads | 25 conductor tests/ratings | 8 hours | 200 hours.
242.109—Opportunity by RRs for certification candidates to review and comment on prior safety record | 704 Railroads | 200 records + 200 comment | 30 minutes + 10 minutes | 133 hours.
242.111—Prior Safety Conduct as Motor Vehicle Operator
—Eligibility determinations | 704 Railroads | 1,100 ratings | 10 minutes | 183 hours.
—Initial certification for 60 days | 704 Railroads | 75 certif | 10 minutes | 13 hours.
—Recertification for 60 days | 704 Railroads | 125 re-certif | 10 minutes | 21 hours.
—Driver info. not provided and request for waiver by persons/railroad | 704 Railroads | 5 requests | 2 hours | 10 hours.
—Request to obtain driver's license information from licensing agency | 54,000 Conductors/Persons | 18,000 requests | 15 minutes | 4,500 hours.
—Requests for additional information from licensing agency | 54,000 Conductors/Persons | 25 requests | 10 minutes | 4 hours.
—Notification to RR by persons of never having a license | 54,000 Conductors/Persons | 25 notices | 10 minutes | 4 hours.
—Report of Motor Vehicle Incidents | 54,000 Conductors | 200 reports | 10 minutes | 33 hours.
—Evaluation of driving record | 54,000 Conductors | 18,000 rating | 15 minutes | 4,500 hours.
—DAC referral by RR after report of driving drug/alcohol incident | 704 Railroads | 180 referrals | 5 minutes | 15 hours.
—DAC request and supply by persons of prior counseling or treatment | 704 Railroads | 5 requests/records | 30 minutes | 3 hours.
—Conditional certifications recommended by DAC | 704 Railroads | 50 certificate endorsements | 4 hours | 200 hours.
242.113—Prior safety conduct as employee of a different railroad | 54,000 conductors | 360 requests/360 records | 15 minutes + 30 minutes | 270 hours.
242.115—Determination that person meets eligibility requirements | 54,000 conductors | 18,000 determination | 2 minutes | 600 hours.
—Written documents from DAC that person is not affected by a disorder | 54,000 conductors | 400 docs | 30 minutes | 200 hours.
—Self-referral by conductors for substance abuse counseling | 704 railroads | 30 self-referrals | 10 minutes | 5 hours.
—Certification reviews for occurrence/documentation of prior alcohol/drug conduct by persons/conductors | 704 railroads | 18,000 cert. reviews | 10 minutes | 3,000 hours.
—Written determination that most recent incident has occurred | 704 railroads | 150 decision. | 60 minutes | 150 hours.
—Notification to person that recertification has been denied | 704 railroads | 300 notices | 10 minutes | 50 hours.
—Persons/conductors waiving investigation/de-certifications | 54,000 conductors | 300 waivers/de-certs | 10 minutes | 50 hours.
242.117—Vision and Hearing Acuity
—Determination vision standards met | 704 railroads | 18,000 deter | 20 minutes | 6,000 hours.
—Determination hearing standards met | 704 railroads | 18,000 deter | 20 minutes | 6,000 hours.
—Additional gap hearing tests | 704 railroads | 200 deter | 20 minutes | 67 hours.
—Medical examiner certificate that person has been examined/passed test | 704 railroads | 18,000 certif | 2 hours | 36,000 hours.
—Document standards met with conditions | 704 railroads | 100 docs | 30 minutes | 50 hours.
—Document standards not met | 704 railroads | 100 docs | 30 minutes | 50 hours.
—Notation person needs corrective device (glasses/hearing aid) | 704 railroads | 10,000 notes | 10 minutes | 1,667 hours.
—Request for further medical evaluation for new determination | 704 railroads | 100 requests + 100 ratings | 60 minutes + 2 hours | 300 hours.
—Request for second retest and another medical evaluation | 704 railroads | 25 requests + 25 ratings | 60 minutes + 2 hours | 75 hours.
—Consultations by medical examiners with railroad officer and issue of conditional certification | 704 railroads | 100 consults + 100 certif | 2 hours + 10 minutes | 217 hours.
—Notification by certified conductor of deterioration of vision/hearing | 704 railroads | 10 notices | 10 minutes | 2 hours.
242.119—Training
—New RRs—Training program | 5 railroads | 5 programs | 3 hours | 15 hours.
—Modification to training program | 704 railroads | 5 program | 30 minutes | 3 hours.
—Completion of training program by conductors/persons—documents | 704 railroads | 100 docs | 60 minutes | 100 hours.
—Conductor refresher training | 704 railroads | 100 retrained conductors | 2 hours | 200 hours.
—Modified training programs due to new laws, regulations, orders, technologies, procedures, or equipment | 704 railroads | 24 modified programs | 4 hours | 96 hours.
—Employee consultation with qualified supervisory employee if given written test to demonstrate knowledge of physical characteristics of any assigned territory | 704 railroads | 1,000 consult | 15 minutes | 250 hours.
—Familiarization training for conductor of acquiring railroad from selling company/railroad prior to commencement of new operation | 704 railroads | 10 trained conductors | 8 hours | 80 hours.
—RR Continuous education/training of conductors | 704 railroads | 18,000 tr. Conductors | 8 hours | 144,000 hours.
242.121—Knowledge Testing
—Determining eligibility | 704 railroads | 18,000 deter | 30 minutes | 9,000 hours.
—Retests/re-examinations | 704 railroads | 500 re-tests | 8 hours | 4,000 hours.
242.123—Monitoring Operational Performance
—Unannounced compliance tests and records | 704 railroads | 18,000 tests + 18,000 records | 10 minutes + 5 minutes | 4,500 hours.
—Return to service that requires unannounced compliance test/record | 704 railroads | 1,000 tests + 1,000 records | 10 minutes + 5 minutes | 250 hours.
242.125/127—Determination made by RR relying on another railroad's certification | 704 railroads | 100 decisions | 30 minutes | 50 hours.
—Determination by Another Country | 704 railroads | 100 decisions | 30 minutes | 50 hours.
242.203—Retaining information supporting determination: Records | 704 railroads | 18,000 records | 15 minutes | 4,500 hours.
—Amended electronic records | 704 railroads | 20 records | 60 minutes | 20 hours.
242.209—Maintenance of Certificates
—Request to display certificate | 704 railroads | 2,000 request/displays | 2 minutes | 67 hours.
—Notification by conductors that RR request to serve exceeds certification | 704 railroads | 1,000 notices | 10 minutes | 167 hours.
242.211—Replacement of certificates | 704 railroads | 500 replaced certifications | 5 minutes | 42 hours.
242.213—Multiple Certificates
—Notification to engineer that no conductor is on train | 704 railroads | 5 notifications | 10 minutes | 1 hour.
—Notification of denial of certification by individuals holding multiple certifications | 704 railroads | 10 notices | 10 minutes | 2 hours.
242.215—RR Oversight Responsibility
—RR review and analysis of administration of certification program | 704 railroads | 44 reviews/analyses | 40 hours | 1,760 hours.
—Report of findings by RR to FRA | 704 railroads | 36 reports | 4 hours | 144 hours.
242.301—Determinations—Territorial qualification and joint operations | 320 railroads | 1,080 deter | 15 minutes | 270 hours.
—Notification by persons who do not meet territorial qualification | 320 railroads | 500 notices | 10 minutes | 83 hours.
242.401—Notification to candidate of information that forms basis for denying certification and candidate response | 704 railroads | 40 notices + 40 responses | 60 minutes/60 minutes | 80 hours.
—Written notification of denial of certification | 704 railroads | 80 notices | 60 minutes | 80 hours.
242.403/405—Criteria for revoking certification; periods of ineligibility
—Review of compliance conduct | 704 railroads | 950 reviews | 10 minutes | 158 hours.
—Written determination that the most recent incident has occurred | 704 railroads | 950 written determination | 60 minutes | 950 hours.
242.407—Process for Revoking Certification
—Revocation for violations of section 242.115(e) | 704 railroads | 950 revoked certificates | 8 hours | 7,600 hours.
—Immediate suspension of certificate | 704 railroads | 950 suspend certificates | 1 hour | 950 hours.
—Determinations based on RR hearing record | 704 railroads | 950 decisions | 15 minutes | 238 hours.
—Hearing record | 704 railroads | 950 records | 30 minutes | 475 hours.
—Written decisions by RR official | 704 railroads | 950 decisions | 2 hours | 1,900 hours.
—Service of written decision on employee by RR + RR service proof | 704 railroads | 950 decisions + 950 proofs | 10 minutes + 5 minutes | 238 hours.
—Written waiver of right to hearing | 54,000 Conductors | 425 waivers | 10 minutes | 71 hours.
—Revocation of certification based on information that another railroad has done so | 704 railroads | 15 revoked certifications | 10 minutes | 3 hours.
—Placing relevant information in record prior to suspending certification/convening hearing | 704 railroads | 100 updated Records | 1 hour | 100 hours.

Total Estimated Responses: 268,799.

Total Estimated Total Annual Burden: 856,406 hours.

Type of Request: Extension of a Currently Approved Collection.

Under 44 U.S.C. 3507(a) and 5 CFR 1320.5(b) and 1320.8(b)(3)(vi), FRA informs all interested parties that it may not conduct or sponsor, and a respondent is not required to respond to a collection of information unless it displays a currently valid OMB control number.

Authority: 44 U.S.C. 3501-3520.

Brett Jortland,
Acting Deputy Chief Counsel.

[FR Doc. 2017-22044 Filed 10-11-17; 8:45 am]

BILLING CODE 4910-06-P